DEPARTMENT OF THE INTERIOR

Fish and Wildlife Service

Availability of the Final Environmental Assessment and Finding of No Significant Impact for Federal Agency Participation in the Virgin River Resource Management and Recovery Program

AGENCY: Fish and Wildlife Service, Interior.

ACTION: Notice of availability of a Final Environmental Assessment for Federal agency participation in the Virgin River Resource Management and Recovery Program.

SUMMARY: This notice advises the public that a Finding of No Significant Impact (FONSI) and the Final Environmental Assessment (EA) for Federal agency participation in the Virgin River Resource Management and Recovery Program (Program) are available for public review. The purpose of the proposed Federal action described in the EA is to formally declare intent of the Fish and Wildlife Service, the Bureau of Land Management, and the National Park Service to participate in the multiagency program designed to implement recovery actions for two endangered fish species, the woundfin and the Virgin River chub, as well as conservation actions for the Virgin spinedace, a species being managed as sensitive by the State of Utah and subject of a conservation agreement. In addition to implementing recovery actions, the Program will facilitate resolution of conflicts between endangered species protection and water development in the Virgin River Basin in Utah. Other participants include the State of Utah Department of Natural Resources, the Washington County Water Conservancy District, and Grand Canyon Trust, a local nonprofit environmental conservation group.

The EA addresses three alternatives: (A) A no action alternative for which the Federal agencies would not participate in the Program but would continue to administer and comply with the Endangered Species Act (Act) as previously done; (B) Federal agency participation in the Program which describes a process for administration and compliance with the Act that provides for full implementation of recovery and conservation actions for the protected fish species, as well as providing a mechanism for section 7 compliance of the Act that reduces conflict in the Utah portion of the Virgin River basin; and (C) Federal agency participation in a basinwide recovery program that includes implementation of the Program in Arizona and Nevada, as well as Utah. Based on the Finding of No Significant Impact, the U.S. Fish and Wildlife Service has determined that the proposed action is not a major Federal action which would significantly affect the quality of the human environment within the meaning of section 102(2)(c) of the National Environmental Policy Act of 1969.

DATES: Copies of the Final EA and FONSI will be mailed to affected Government offices and interested parties who specifically requested them. Those interested persons not on the EA mailing list may request a copy from the Project Leader at the address below. Written comments must be received on or before July 13, 2001.

All comments received will become part of the official public record. Requests for such comments will be handled in accordance with the Freedom of Information Act and the Council on Environmental Quality's National Environmental Policy Act Regulations (40 CFR 1506.6). When requested, comment letters with the names and addresses of the individuals who wrote the comments will generally be provided in response to such requests to the extent permissible by law. Individual respondents may request that we withhold their home address from the record, which we will honor to the extent allowable by law. If you wish to withhold your name and/or address, you must state this prominently at the beginning of your comments.

ADDRESSES: Written comments should be addressed to the Field Supervisor, Utah Ecological Services Field Office, Lincoln Plaza, 145 East 1300 South State Street, Suite 404, Salt Lake City, Utah 84115. All comments and material received will be available upon request for public inspection, by appointment, during normal business hours at the above address.

FOR FURTHER INFORMATION CONTACT: Mr. Henry R. Maddux, Utah Field Supervisor (see ADDRESSES above), or at 801-524-5001 extension 126.

SUPPLEMENTARY INFORMATION:

Background

The woundfin was listed as endangered on October 13, 1970 (35 FR 16047). The Virgin River chub was listed as endangered on August 24, 1989 (54 FR 35305). The Virgin River Fishes Recovery Plan (VRFRP), which included recovery of both woundfin and Virgin River chub, was finalized in 1995. Critical Habitat was designated for these two species on January 26, 2000 (65 FR 4140). The Virgin spinedace was proposed for listing as endangered on May 18, 1994 (59 FR 25875). The Virgin Spinedace Conservation Agreement and Strategy (VSCAS) to eliminate or reduce impacts threatening the continued existence of Virgin spinedace was finalized on April 11, 1995, and subsequently, the proposal to list was withdrawn on February 6, 1996 (61 FR 44010). All three of these fish species are endemic to the Virgin River basin through Utah, Arizona, and Nevada. The southwestern willow flycatcher is a neotropical migratory bird listed as endangered on February 27, 1995 (60 FR 10693) that seasonally occupies sites along the Virgin River and throughout the desert southwest. In addition, the Virgin River basin retains a diversity of native desert animal and plant species, many of which are declining due to impacts from human development in the area.

Despite Federal listing of two fish species, implementation of recovery actions in the Virgin River to benefit endangered fish have been minimal due to limited funding for recovery over the past 25 years. Furthermore, conflicts have arisen between water development interests and those managing for protection of native species that rely on the river environment. Specifically, contention between the local environmental community and local water developers over operations of the Quail Creek Diversion in the Virgin River near Hurricane, Utah, led to discordant relations and threats of litigation among the agencies and organizations interested in water use.

To resolve this situation, the interested entities agreed to develop the Virgin River Resource Management and Recovery Program that would provide a mechanism to prioritize, fund, and implement recovery actions while allowing water development necessary to meet human needs in the Utah portion of the Virgin River basin. It is anticipated that the Program will not only provide recovery actions that are necessary to offset impacts from proposed development actions to the native protected species, but further lead to full recovery of the endangered fish species and conservation of the Virgin spinedace, as well as provide benefits to the endangered southwestern willow flycatcher.

The Program will encompass the VRFRP and VSCAS so that actions identified in these documents can be funded, implemented, and evaluated for effectiveness. In addition, the Program will provide measures to offset proposed Federal project impacts during section 7 consultations in order to prevent future conflict over water development and minimize impacts of Federal projects on protected aquatic species. Goals and objectives of the Program are based on recovery of the endangered fish and conservation of Virgin spinedace in an environment of continuing water development. Although some impacts to native species are expected through future water development projects, recovery actions have been and will continue to be implemented in advance of project impacts such that the status of species and/or its habitat is expected to improve and remain greater than that necessary to offset anticipated impacts. A crediting system has been developed to assess, measure, and track benefits and impacts of projects and is designed to maintain measured benefits at a higher level than impacts so that the Program is always moving toward recovery and conservation of protected species.

Although participation is limited to Utah portions of the Virgin River basin at this time, it is expected that the remaining portions of the Virgin River basin in Arizona and Nevada will be invited to participate in the Program in future years, as it becomes better established and demonstrates effectiveness.

It is important to note that participation in this Program does not represent or guarantee legal authority for any water development project. Such projects must be evaluated individually as they are proposed and continue to be subject to all applicable Federal and State laws, including the National Environmental Policy Act and the Endangered Species Act. This EA is not intended to provide analysis for specific project impacts but rather analyzes only effects of Federal participation in the Program.

Author

The primary author of this notice is Yvette K. Converse, U.S. Fish and Wildlife Service, 145 East 1300 South State Street, Suite 404, Salt Lake City, Utah 84115, 801-524-5001 extension 135.

Authority

The authorities for this action are the National Environmental Policy Act of 1969 (42 U.S.C. 4321 et seq.) and the Endangered Species Act of 1973 (16 U.S.C. 1532 et seq.).

Dated: May 30, 2001.
Duane K. McDermond,
Acting Regional Director, Denver, CO.

Finding of No Significant Impact—Federal Participation in the Virgin River Resource Management and Recovery Program

The U.S. Fish and Wildlife Service, as lead agency, with the Bureau of Land Management and National Park Service as cooperating agencies, propose to participate in the Virgin River Resource Management and Recovery Program (Program). The Program will be a multiagency program designed to implement recovery actions for two endangered fish species, the woundfin and the Virgin River chub. It also will implement conservation actions for the Virgin spinedace, a species being managed as sensitive by the State of Utah and subject of a conservation agreement. In addition to implementing recovery actions, the Program will facilitate resolution of conflicts between endangered species protection and water development in the Virgin River Basin in Utah by providing actions to improve the status of these species so that proposed water development will not jeopardize these species existence or adversely modify their critical habitat. Other Program participants will be the State of Utah Department of Natural Resources, the Washington County Water Conservancy District, and Grand Canyon Trust, a local nonprofit environmental conservation group.

An Environmental Assessment was prepared which addressed three alternatives: (A) a no action alternative whereby the Federal agencies would not participate in the Program but would continue to administer and comply with the Endangered Species Act (Act) as previously done; (B) Federal agency participation in the Program which describes a process for administration and compliance with the Act that provides for full implementation of recovery and conservation actions for the protected fish species, as well as providing a mechanism for section 7 compliance of the Act that reduces conflict in the Utah portion of the Virgin River basin; and (C) Federal agency participation in a basinwide recovery program that includes implementation of the Program in Arizona and Nevada, as well as Utah.

Alternative B, the Preferred Alternative, will result in the most effective participation by Department of the Interior agencies, State and local agencies, and organizations to coordinate, direct, and fund recovery actions for imperiled aquatic fish species in the Basin in Utah. It also will facilitate implementation of the Virgin River Resource Management and Recovery Program that was developed by resource agencies in Utah.

Based on my review and evaluation of the Environmental Assessment and supporting documentation, I have determined that Federal agency participation in the Virgin River Resource and Management Program is not a major Federal action which would significantly affect the quality of the human environment within the meaning of section 102(2)(c) of the National Environmental Policy Act of 1969. Accordingly, preparation of an environmental impact statement is not required.

Dated: May 30, 2001.

Duane K. McDermond,

Acting Regional Director.

References: Environmental Assessment dated May 2000; Intra-Service Section 7 Consultation

[FR Doc. 01-14863 Filed 6-12-01; 8:45 am]

BILLING CODE 4310-55-P